DEPARTMENT OF HEALTH AND HUMAN SERVICES

Health Resources and Services Administration

HIV/AIDS Bureau; Policy Notice 99-02 Amendment #1

AGENCY: Health Resources and Services Administration (HRSA), HHS.

ACTION: Final Notice.

SUMMARY: The HRSA HIV/AIDS Bureau (HAB) Policy Notice 99-02 entitled, The Use of Ryan White HIV/AIDS Program Funds for Housing Referral Services and Short-term or Emergency Housing Needs, provides grantees with guidance on the use of Title XXVI of the Public Health Service Act (Ryan White HIV/AIDS Program) funds for short-term and emergency housing assistance for persons living with HIV/AIDS. This Federal Register notice seeks to make public the final policy notice 99-02 Amendment # 1 which places a cumulative period of 24 months on short-term and emergency housing assistance under the Ryan White HIV/AIDS Program, and clarifies and updates certain nomenclature found in the original housing policy 99-02. This policy becomes effective March 27, 2008.

SUPPLEMENTARY INFORMATION: HAB Policy Notice 99-02 Amendment # 1 establishes a cumulative 24-month period per household for use of Ryan White HIV/AIDS Program funds for short-term and emergency housing assistance. The final policy notice 99-02 Amendment # 1 reflects modifications based on public comment received in response to the HAB policy notice published in the Federal Register on December 6, 2006. During the 60-day comment period, ending February 5, 2007, HAB received over 200 comments from the public.

Comments on the Proposed Housing Policy Amendments and HRSA Response: There were several public comments in favor of the draft policy stating that the proposed changes allow more money to be allocated to life-saving core medical services, including medications. The following three areas of concern were the main points raised in the public comments.

Comment: The imposition of a lifetime cap of 24 months on housing assistance was felt to be restrictive and does not allow for exceptions.

Response: HRSA disagrees that the 24-month cap is too restrictive and retains that requirement in order to balance the housing policy with the more restrictive funding limits established for support services in the 2006 reauthorization of the Ryan White HIV/AIDS Program. In addition, this time limit emphasizes that Ryan White HIV/AIDS Program funds for housing assistance must be short-term in nature, and designed to obtain more permanent and stable assistance from other funding sources.

Comment: The immediate effective date does not allow programs sufficient time to plan the implementation of the policy.

Response: With respect to concerns that the immediate effective date did not allow programs time to properly implement the amended policy, the effective date is moved to March 27, 2008 allowing programs additional time to plan the implementation of the final housing policy 99-02 Amendment #1.

Comment: Current clients that are at or close to the 24-month period of their use of funds for housing services are not grandfathered into the draft policy; and additional concerns regarding the establishment of new tracking systems is particularly difficult if it is necessary to back-track and count clients currently receiving housing assistance.

Response: The cumulative 24-month period does not include any previous housing assistance received prior to the effective date which responds to concerns related to the grandfathering of current clients receiving such assistance. The fact that the policy is not retroactive eliminates concerns related to the burden of tracking previous clients utilizing housing assistance through Ryan White HIV/AIDS Program funds. Grantees must be capable of tracking future housing payments and providing HAB with documentation related to the use of funds for housing assistance, including evidence of compliance with the 24-month limit established in this final HAB Policy Notice 99-02 Amendment # 1.

The final policy notice also addresses new nomenclature needed as the result of the reauthorization of the Ryan White HIV/AIDS Program in 2006. For instance, the amended Ryan White Comprehensive AIDS Resources Emergency (CARE) Act is referred to as Title XXVI of The Public Health Service Act (Ryan White HIV/AIDS Program). Furthermore, the programs under Titles I-IV are now referred to as programs under Parts A-D.

HRSA HAB Policy Notice—99-02, Amendment # 1

Document Title: The Use of Ryan White HIV/AIDS Program Funds for Housing Referral Services and Short-term or Emergency Housing Needs

The following policy establishes guidelines for allowable housing-related expenditures under the Ryan White HIV/AIDS Program. The purpose of all Ryan White HIV/AIDS Program funds is to ensure that eligible HIV-infected persons and families gain or maintain access to medical care.

A. Funds received under the Ryan White HIV/AIDS Program (Title XXVI of the Public Health Service Act) may be used for the following housing expenditures:

i. Housing referral services defined as assessment, search, placement, and advocacy services must be provided by case managers or other professional(s) who possess a comprehensive knowledge of local, State, and Federal housing programs and how they can be accessed; or

ii. Short-term or emergency housing defined as necessary to gain or maintain access to medical care and must be related to either:

a. Housing services that include some type of medical or supportive service (a listing of supportive services can be found at: http://hab.hrsa.gov/reports/data2b.htm) including, but not limited to, residential substance abuse treatment or mental health services (not including facilities classified as an Institution for Mental Diseases under Medicaid), residential foster care, and assisted living residential services; or

b. Housing services that do not provide direct medical or supportive services but are essential for an individual or family to gain or maintain access to and compliance with HIV-related medical care and treatment. Necessity of housing services for purposes of medical care must be certified or documented by a case manager, social worker, or other licensed healthcare professional(s).

B. Short-term or emergency housing assistance is understood as transitional in nature and for the purposes of moving or maintaining an individual or family in a long-term, stable living situation. Such assistance is limited to a cumulative period of 24 months per household. Short-term or emergency assistance must be accompanied by a strategy to:

i. Identify, relocate, and/or ensure the individual or family is moved to a long-term, stable housing; or

ii. Identify an alternate funding source for support of housing assistance.

C. Housing funds cannot be in the form of direct cash payments to recipients or services and cannot be used for mortgage payments.

D. The Ryan White HIV/AIDS Program must be the payer of last resort. In addition, funds received under the Ryan White HIV/AIDS Program must be used to supplement but not supplant funds currently being used from local, State, and Federal agency programs. Grantees must be capable of providing the HIV/AIDS Bureau (HAB) with documentation related to the use of funds as payer of last resort and the coordination of such funds with other local, State, and Federal funds.

E. Housing-related expenses are limited to Part A, Part B, and Part D of the Ryan White HIV/AIDS Program and are not allowable expenses under Part C.

F. For all clients, new or current, the 24-month cumulative period of eligibility becomes effective as of March 27, 2008. Grantees are responsible for tracking the 24-month cumulative period of eligibility beginning on that date.

Dated: February 19, 2008.
Elizabeth M. Duke,
Administrator.

[FR Doc. E8-3607 Filed 2-25-08; 8:45 am]

BILLING CODE 4165-15-P